DEPARTMENT OF COMMERCE

National Oceanic and Atmospheric Administration

Proposed Information Collection; Comment Request; Subsistence Fishery for Pacific Halibut in Waters Off Alaska: Registration and Marking of Gear

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 5, 2009.

ADDRESSES: Direct all written comments to Diana Hynek, Departmental Paperwork Clearance Officer, Department of Commerce, Room 7845, 14th and Constitution Avenue, NW., Washington, DC 20230 (or via the Internet at dHynek@doc.gov).

FOR FURTHER INFORMATION CONTACT: Requests for additional information or copies of the information collection instrument and instructions should be directed to Patsy A. Bearden, (907) 586-7008 or patsy.bearden@noaa.gov.

SUPPLEMENTARY INFORMATION:

I. Abstract

This submission seeks renewal of collection-of-information requirements that are part of the program for the Pacific halibut subsistence fishery. The program includes requirements for registration to participate in the fishery and the marking of certain types of gear used in this fishery. The registration requirement is intended to allow qualified persons to practice the long-term, customary, and traditional harvest of Pacific halibut for food in a noncommercial manner. The gear-marking requirement aids in enforcement and in actions related to gear damage or loss. The registration information may be submitted by an individual or as a list of multiple individuals from an Alaska Native Tribe.

II. Method of Collection

Applications may be submitted online or as e-mail attachments; paper forms may be sent by mail or fax.

III. Data

OMB Control Number: 0648-0460.

Form Number: None.

Type of Review: Regular submission.

Affected Public: Not-for-profit institutions; State, local, and Tribal government; and individuals or households.

Estimated Number of Respondents: 27,963.

Estimated Time per Response: Subsistence halibut registration certificate (SHARC) application, 10 minutes; and subsistence halibut gear marking, 15 minutes.

Estimated Total Annual Burden Hours: 1,206.

Estimated Total Annual Cost to Public: $17,663.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 31, 2009.
Gwellnar Banks,
Management Analyst, Office of the Chief Information Officer.

[FR Doc. E9-18672 Filed 8-4-09; 8:45 am]

BILLING CODE 3510-22-P